DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee:National Cancer Institute Special Emphasis Panel. Application of Emerging Technologies and Biospecimen Sciences.

Date: February 24-25, 2010.

Time:8 a.m. to 6 p.m.

Agenda:To review and evaluate grant applications.

Place:Hyatt Regency Bethesda, One Bethesda Metro Center, 7400 Wisconsin Avenue, Bethesda, MD 20814.

Contact Person:Scientific Review Officer, Special Review and Logistics Branch, Division of Extramural Activities, National Cancer Institute, NIH, 6116 Executive Boulevard, Room 8059, Bethesda, MD 20892-8329, 301-496-7904, decluej@mail.nih.gov.

Name of Committee:National Cancer Institute Special Emphasis Panel. R13 Conference Grants Review,

Date:February 25, 2010.

Time:1 p.m. to 6 p.m.

Agenda:To review and evaluate grant applications.

Place:National Institutes of Health, 6116 Executive Boulevard, Room 8041, Rockville, MD 20852 (Telephone Conference Call).

Contact Person:Bratin K. Saha, PhD, Scientific Review Officer, Program Coordination and Referral Branch, Division of Extramural Activities, National Cancer Institute, NIH, 6116 Executive Boulevard, Room 8041, Bethesda, MD 20892, 301-402-0371. sahab@mail.nih.gov.

Name of Committee:National Cancer Institute Special Emphasis Panel, Quantitative Cell-Based Imaging for Clinical Diagnosis and Treatment.

Date:February 25, 2010.

Time:12 p.m. to 4 p.m.

Agenda:To review and evaluate contract proposals.

Place:National Institutes of Health, 6116 Executive Boulevard, Room 706, Rockville, MD 20852 (Teleconference Meeting).

Contact Person:Kenneth L. Bielat, PhD, Scientific Review Officer, Special Review Logistics Branch, Division of Extramural Activities, National Cancer Institute, 6116 Executive Boulevard, Room 7147, Bethesda, MD 20892-8329, 301-496-7576, bielatk@mail.nih.gov.

Name of Committee:National Cancer Institute Special Emphasis Panel; Facilitating the Transfer of Statistical Methodology into Practice.

Date:March 3, 2010.

Time:11 a.m. to 3 p.m.

Agenda:To review and evaluate contract proposals.

Place:National Institutes of Health, 6116 Executive Boulevard, Room 707, Rockville, MD 20852 (Telephone Conference Meeting).

Contact Person:Marvin L Salin, PhD, Scientific Review Officer, Special Review and Logistics Branch, Division of Extramural Activities, National Cancer Institute, NIH, 6116 Executive Boulevard, Room 7073, Bethesda, MD 20892-8329 301-496-0694, msalin@mail.nih.gov.

Name of Committee:National Cancer Institute Special Emphasis Panel, Development of Cancer Proteomics Reagents,

Date:March 9, 2010.

Time:8 a.m. to 5 p.m.

Agenda:To review and evaluate contract proposals.

Place:The Legacy Hotel and Meeting Center, 1775 Rockville Pike, Rockville, MD 20852,

Contact Person:Zhiqiang Zou, M.D., PhD, Scientific Review Officer, National Cancer Institute, National Institutes of Health, 6116 Executive Blvd., Room 8050A, Bethesda, MD 20852, 301-402-9415, zouzhiq@mail.nih.gov.

Name of Committee:National Cancer Institute Special Emphasis Panel, Innovative Technologies Development.

Date:March 10-11, 2010.

Time:8 a.m. to 6 p.m.

Agenda:To review and evaluate grant applications.

Place: Hyatt Regency Bethesda, One Bethesda Metro Center, 7400 Wisconsin Avenue, Bethesda, MD 20814.

Contact Person:Jeffrey E. DeClue, PhD, Scientific Review Officer, Special Review and Logistics Branch, Division of Extramural Activities, National Cancer Institute, NIH, 6116 Executive Boulevard, Room 8059, Bethesda, MD 20892-8329, 301-496-7904, decluej@mail.nih.gov.

Name of Committee:National Cancer Institute Special Emphasis Panel, EDRN Biomarker Development Labs (U01).

Date:March 10-11, 2010.

Time:8 a.m. to 6 p.m.

Agenda:To review and evaluate grant applications.

Place:Bethesda Marriott, 5151 Pooks Hill Road, Bethesda, MD 20814.

Contact Person:Sherwood Githens, PhD, Scientific Review Officer, Special Review and Logistics Branch, Division of Extramural Activities, National Cancer Institute, 6116 Executive Blvd. Room 8146, Bethesda, MD 20892, 301-435-1822, githenss@mail.nih.gov.

Name of Committee:National Cancer Institute Special Emphasis Panel; Development of Anticancer Agents.

Date:March 24-26, 2010.

Time:8:30 a.m. to 5 p.m.

Agenda:To review and evaluate contract proposals.

Place:Bethesda North Marriott Hotel & Conference Center, 5701 Marinelli Road, Bethesda, MD 20852.

Contact Person:Joyce C. Pegues, PhD, Scientific Review Officer, Special Review and Logistics Branch, Division of Extramural Activities, NIH National Cancer Institute, 6116 Executive Boulevard, Room 7149, Bethesda, MD 20892-8329, 301-594-1286, peguesj@mail.nih.gov.

Name of Committee:National Cancer Institute Special Emphasis Panel; Cancer Nanotechnology Platform Partnerships.

Date:March 31-April 1, 2010.

Time:8 a.m. to 6 p.m.

Agenda:To review and evaluate grant applications.

Place:Bethesda North Marriott Hotel & Conference Center, Montgomery County Conference Center Facility, 5701 Marinelli Road, North Bethesda, MD 20852.

Contact Person:Savvas C Makrides, PhD, Scientific Review Officer, Special Review and Logistics Branch, Division of Extramural Activities, National Cancer Institute, NIH, 6116 Executive Blvd., Rm 8053, Bethesda, MD 20892, 301-496-7421, makridessc@mail.nih.gov.

Name of Committee:National Cancer Institute Special Emphasis Panel, Small Grants Program for Cancer Epidemiology.

Date:April 15-16, 2010.

Time:8:30 a.m. to 5:30 p.m.

Agenda:To review and evaluate grant applications.

Place:Legacy Hotel and Meeting Center, 1775 Rockville Pike, Rockville, MD 20852.

Contact Person:Joyce C. Pegues, PhD, Scientific Review Officer, Special Review and Logistics Branch, Division of Extramural Activities, National Cancer Institute, NIH, 6116 Executive Boulevard, Room 7149, Bethesda, MD 20892-8329, 301-594-1286, peguesj@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: January 25, 2010.
Jennifer Spaeth,
Director, Office of Federal Advisory Committee Policy.

[FR Doc. 2010-2030 Filed 1-29-10; 8:45 am]

BILLING CODE 4140-01-P